DEPARTMENT OF ENERGY

Federal Energy Regulatory Commission

[Project No. 12635-001]

Moriah Hydro Corporation; Notice of Preliminary Permit Application Accepted for Filing and Soliciting Comments, Motions To Intervene, and Competing Applications

January 6, 2010.

On November 2, 2009, Moriah Hydro Corporation filed an application, pursuant to section 4(f) of the Federal Power Act, for a successive preliminary permit to study the feasibility of the Mineville Pumped Storage Project, to be located in the existing Old Bed, New Bed, and Harmony Mines, within the town of Moriah in Essex County, New York. The mines are owned by the X-Earth Corporation of Elizabethtown, New York, Rhodia Corporation of Cranbury, New Jersey, and the Town of Moriah, New York.

The proposed pumped storage project would consist of the following: (1) An upper reservoir formed underground in Harmony Mine between the existing +400 and +1,000 foot elevation levels of the mine, with a surface area of about 50 acres and volume of approximately 2,400 acre-feet at normal water surface elevation of +1,000 feet Project Datum; (2) a lower reservoir formed underground in Harmony Mine between the existing −1,650 and −1,050 elevation levels of the mine, with a surface area of about 50 acres and volume of approximately 2,400 acre-feet at normal water surface elevation of +1,050 feet Project Datum; (3) two identical 2,500-foot-long, 120-inch-diameter vertical bored drop shafts; (4) a proposed concrete powerhouse 70-feet-wide by 280-feet-long by 40-feet-high, containing approximately 100 pump/turbine/generator units having a total installed capacity of 270 megawatts (MW); (5) a proposed underground, 1-mile-long, 115 kilovolt (kV) transmission line; and (6) appurtenant facilities.

The development would have an annual generation of 650 gigawatt-hours (GWh), which would be sold to a local utility.

Applicant Contact: Mr. James A. Besha, P.E., Moriah Hydro Corporation c/o Albany Engineering Corporation, 5 Washington Square, Albany, NY 12205, (518) 456-7712.

FERC Contact: John Ramer, (202) 502-8969.

Deadline for filing motions to intervene, competing applications (without notice of intent), or notices of intent to file competing applications: 60 days from the issuance date of this notice. Comments, motions to intervene, notices of intent, and competing applications may be electronically filed via the Internet. See 18 CFR 385.2001(a)(1)(iii) and the instructions on the Commission's Web site under the “e-Filing” link. If unable to be filed electronically, documents may be paper-filed. To paper-file, an original and eight copies should be filed to: Kimberly D. Bose, Secretary, Federal Energy Regulatory Commission, 888 First Street, NE., Washington, DC 20426. For more information on how to submit these types of filings please go to the Commission's Web site located at http://www.ferc.gov/filling-comments.asp. More information about this project can be viewed or printed on the “e-library” link of the Commission's Web site at http://www.ferc.gov/docs-filings/elibrary.asp. Enter the docket number (P-12635-001) in the docket number field to access the document. For assistance, call toll free 1-866-208-3372.

Kimberly D. Bose,
Secretary.

[FR Doc. 2010-524 Filed 1-13-10; 8:45 am]

BILLING CODE 6717-01-P